DEPARTMENT OF HOMELAND SECURITY

Coast Guard

33 CFR Chapter I

46 CFR Chapter I

[Docket No. USCG-2025-0186]

Gulf of America Renaming

AGENCY: Coast Guard, DHS.

ACTION: Final rule.

SUMMARY: In keeping with Presidential directive, the Coast Guard is amending its regulations to update the name of the “Gulf of Mexico” to the “Gulf of America.”

DATES: This final rule is effective March 17, 2025.

ADDRESSES: To view documents mentioned in this preamble as being available in the docket, go to www.regulations.gov, type USCG-2025-0186 in the search box, and click “Search.” Next, in the Document Type column, select “Supporting & Related Material.”

FOR FURTHER INFORMATION CONTACT: For information about this document, call or email Mr. Timothy Brown, Coast Guard; telephone 202-372-2358, email Timothy.M.Brown@uscg.mil.

SUPPLEMENTARY INFORMATION:

Table of Contents for Preamble

I. Table of Abbreviations

II. Basis and Purpose, Regulatory History, and Background

III. Discussion of the Rule

IV. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Environment

I. Table of Abbreviations

CFR Code of Federal Regulations

DHS Department of Homeland Security

FR Federal Register

NPRM Notice of proposed rulemaking

OMB Office of Management and Budget

§ Section

U.S.C. United States Code

II. Basis and Purpose, Regulatory History, and Background

This final rule is issued under the authority of 5 U.S.C. 552(a) and 553; 14 U.S.C. 102 and 503; Executive Order 14172, titled “Restoring Names That Honor American Greatness” (90 FR 8629, Jan. 20, 2025), Department of Homeland Security (DHS) Delegation No. 00170.1(II)(23) Revision No. 01.4, and 33 CFR 1.05-1(h). Executive Order 14172 renamed the area formerly known as the Gulf of Mexico as the Gulf of America. The purpose of this rule is to update the Coast Guard's chapters in the Code of Federal Regulations (CFR) to reflect the renaming. This action advances the goals of Executive Order 14172 to achieve consistency across the federal government when referencing the Gulf of America.

We did not publish a notice of proposed rulemaking (NPRM) before this final rule. The Coast Guard finds that this rule is exempt from notice and comment rulemaking requirements under 5 U.S.C. 553(b)(A) because the gulf renaming is a conforming amendment involving agency practice. The Coast Guard also finds good cause exists under 5 U.S.C. 553(b)(B) for not publishing an NPRM. Updating the name of Gulf of America in the CFR imposes no substantive changes on the public's rights or obligations and will be inconsequential in impact. This is a conforming amendment to align our regulations with the Executive order and Geographic Names Information System renaming of the Gulf of America. For these reasons, notice and comment is unnecessary.

For the same reasons, the Coast Guard finds good cause exists under 5 U.S.C. 553(d)(3) to make the rule effective fewer than 30 days after publication in the Federal Register. Delaying the effective date of the rule is unnecessary because updating the name we use in our regulations to identify the body of water is inconsequential to the public and the name has already been adopted by Executive order.

III. Discussion of the Rule

This rule replaces the term “Gulf of Mexico” with “Gulf of America” where it appears in existing Coast Guard regulations in 33 CFR Chapter I and 46 CFR Chapter I. We make this change to reflect the current name of the gulf. This change is consistent with Executive Order 14172, and the name used by the Geographic Names Information System. It will have no substantive impact on the public. Under 33 CFR 1.05-1(h), the Chief of the Coast Guard's Office of Regulations and Administrative Law has been delegated authority to issue regulations necessary to implement technical, organizational, and conforming amendments and corrections to regulations.

IV. Regulatory Analyses

We developed this rule after considering numerous statutes and Executive orders related to rulemaking. Below we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a significant regulatory action under section 3(f) of Executive Order 12866. Accordingly, this rule has not been reviewed by the OMB.

This regulatory action determination is based on the finding that the name change will have no substantive effect on the public. A regulatory analysis (RA) follows.

This rule involves non-substantive technical amendments and updates to internal agency practices and procedures; it will not impose any additional costs. The technical amendments in this rule modify existing language in the CFR, in accordance with Executive Order 14172 “Restoring Names That Honor American Greatness” (January 20, 2025), to rename the area formerly known as the “Gulf of Mexico” to the “Gulf of America”. The Coast Guard does not expect that there will be any additional costs conferred on the public or the Federal Government because none of the technical and editorial changes included in this rule will change existing regulatory requirements. A summary of these amendments by category and by CFR title and section are presented in table 1.

The unquantified benefits of the non-substantive technical amendments are increased accuracy of regulatory information by removing expired or cancelled provisions that are no longer relevant.

Table 1—Summary of Regulatory Changes by CFR Title and Section
CFR title | Section | Description of changes | Economic impact
33 | §§ 3.35-1, 3.40-1, 62.51, 72.01-40, 80.835, 100.703, 100.721, 100.801, 110.194b, 117.47, 147.801, 147.823, 147.839, 147.847, 147.849, 147.851, 147.853, 147.855, 147.857, 147.859, 147.861, 147.863, 147.865, 147.867, 147.869, 147.871, 147.873, 147.875, 147.877, 147.879, 148.5, 150.940, 151.06, 151.53, 154.1020, 154.1020, 154.1020, 155.200, 155.1020, 155.1020, 155.4025, 155.4025, 156 Subpart C, 156 Subpart C, 156.300, 156.310, 162.65, 162.75, 165.753, 165.801, 165.840, 166.200 | Reflects changes brought by Executive Order 14172 to rename the area formerly known as the “Gulf of Mexico” to the “Gulf of America” | No impact; editorial changes.
46 | §§ 24.10-1, 30.10-11, 30.10-45, 31.20-1, 44.01-12, 70.10-1, 70.10-1, 90.10-11, 90.10-25, 109.585 Appendix A, 110.15-1, 114.400, 125.160, 133.70, 133.105, 136.110, 151.03-11, 151.03-39, 167.60-1, 170.050, 172.030, 175.400, 188.10-15, 188.10-51, 199.30 | Reflects changes brought by Executive Order 14172 to rename the area formerly known as the “Gulf of Mexico” to the “Gulf of America” | No impact; editorial changes.

B. Small Entities

The Regulatory Flexibility Act of 1980 (RFA), 5 U.S.C. 601-612, requires federal agencies to consider the potential impact on small entities when they issue a rule after being required to first publish a general notice of proposed rulemaking. Under 5 U.S.C 604(a), a regulatory flexibility analysis is not required for this final rule because under provision in 553(b)(B) we were not required to publish a general notice of a proposed rulemaking. Therefore, we did not conduct a regulatory flexibility analysis for this rule.

C. Assistance for Small Entities

Under section 213(a) of the Small Business Regulatory Enforcement Fairness Act of 1996, Public Law 104-121, we offer to assist small entities in understanding this final rule so that they can better evaluate its effects on them and participate in the rulemaking. The Coast Guard will not retaliate against small entities that question or complain about this final rule or any policy or action of the Coast Guard. If you wish to comment on actions by employees of the Coast Guard, call 1-888-REG-FAIR (1-888-734-3247).

D. Collection of Information

This rule calls for no new or revised collection of information under the Paperwork Reduction Act of 1995, 44 U.S.C. 3501-3520.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have tribal implications under Executive Order 13175 (Consultation and Coordination with Indian Tribal Governments), because it will not have a substantial direct effect on one or more Indian tribes, on the relationship between the Federal Government and Indian tribes, or on the distribution of power and responsibilities between the Federal Government and Indian tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Environment

We have analyzed this rule under Department of Homeland Security Management Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. A Record of Environmental Consideration supporting this determination is available in the docket. For instructions on locating the docket, see the ADDRESSES section of this preamble. This final rule is categorically excluded under paragraph A3, and L54 of Appendix A, Table 1 of DHS Instruction Manual 023-01-001-01, Rev. 1. The categorical exclusion CATEX A3 pertains to the promulgation of rules, issuance of rulings or interpretations, and the development and publication of policies, orders, directives, notices, procedures, manuals, advisory circulars, and other guidance documents of the following nature: (a) those of a strictly administrative or procedural nature, (b) those that implement, without substantive change, statutory or regulatory requirements, (c) those that implement, without substantive change, procedures, manuals, and other guidance documents, and (d) those that interpret or amend an existing regulation without changing its environmental effect. CATEX L54 pertains to regulations which are editorial or procedural. This final rule involves non-substantive technical, organizational, and conforming amendments to existing Coast Guard regulations.

List of Subjects

33 CFR Parts 62, 72, 80, 100, 147, 150, 162, 165, 166

Navigation (water).

33 CFR Part 3

Organization and functions (Government agencies).

33 CFR Part 110

Anchorage grounds.

33 CFR Part 117

Bridges.

33 CFR Part 148

Administrative practice and procedure, environmental protection, harbors, petroleum.

33 CFR Part 151

Administrative practice and procedure, oil pollution, penalties, reporting and recordkeeping requirements, water pollution control.

33 CFR Part 154

Alaska, fire prevention, hazardous substances, oil pollution, reporting and recordkeeping requirements.

33 CFR Part 155

Alaska, hazardous substances, incorporation by reference, oil pollution, reporting and recordkeeping requirements.

33 CFR Part 156

Hazardous substances, oil pollution, reporting and recordkeeping requirements, water pollution control.

46 CFR Parts 24, 31, 70, 90, 109, 114, 125, 133, 151, 167, 170, 172, 175, 188, 199

Marine safety.

46 CFR Part 30

Cargo vessels, foreign relations, hazardous materials transportation, incorporation by reference, penalties, reporting and recordkeeping requirements, seamen.

46 CFR Part 44

Reporting and recordkeeping requirements, vessels.

46 CFR Part 110

Incorporation by reference, reporting and recordkeeping requirements, vessels.

46 CFR Part 136

Incorporation by reference, reporting and recordkeeping requirements, towing vessels.

For the reasons discussed in the preamble, under the authority of 14 U.S.C. 102, the Coast Guard amends 33 CFR chapter I and 46 CFR chapter I as follows:

Title 33—Navigation and Navigable Waters

CHAPTER I [AMENDED]

1. In chapter I amend parts 3, 62, 72, 80, 100, 110, 117, 147, 148, 150, 151, 154, 155, 156, 162, 165, 166 by removing the text “Gulf of Mexico” wherever it appears and adding, in its place, the text “Gulf of America”.

Title 46—Shipping

CHAPTER I [AMENDED]

2. In chapter I amend parts 24, 30, 31, 44. 70, 90, 109, 110, 114, 125, 133, 136, 151, 167, 170, 172, 175, 188, 199 by removing the text “Gulf of Mexico” wherever it appears and adding, in its place, the text “Gulf of America”.

Dated: March 10, 2025.
Michael T. Cunningham,
Chief, Office of Regulations and Administrative Law.

[FR Doc. 2025-04018 Filed 3-13-25; 4:15 pm]

BILLING CODE 9110-04-P